DEPARTMENT OF LABOR

Occupational Safety and Health Administration

[Docket No. OSHA-2013-0030]

IAPMO Ventures, LLC dba IAPMO EGS: Grant of Expansion of Recognition

AGENCY: Occupational Safety and Health Administration (OSHA), Labor.

ACTION: Notice.

SUMMARY: In this notice, OSHA announces the final decision on the application of IAPMO Ventures, LLC dba IAPMO EGS for expansion of its scope of recognition as a Nationally Recognized Testing Laboratory (NRTL).

DATES: The expansion of the scope of recognition becomes effective on April 12, 2021.

FOR FURTHER INFORMATION CONTACT: Information regarding this notice is available from the following sources:

Press inquiries: Contact Mr. Frank Meilinger, Director, OSHA Office of Communications, U.S. Department of Labor, phone: (202) 693-1999 or email: meilinger.francis2@dol.gov.

General and technical information: Contact Mr. Kevin Robinson, Director, OSHA Office of Technical Programs and Coordination Activities, Directorate of Technical Support and Emergency Management, U.S. Department of Labor, phone: (202) 693-2110 or email: robinson.kevin@dol.gov.

SUPPLEMENTARY INFORMATION:

I. Notice of Final Decision

OSHA hereby gives notice of the expansion of the scope of recognition of IAPMO Ventures, LLC dba IAPMO EGS (IAPMO) as a NRTL. IAPMO's expansion covers the addition of six test standards to the NRTL scope of recognition.

OSHA recognition of a NRTL signifies that the organization meets the requirements specified by 29 CFR 1910.7. Recognition is an acknowledgment that the organization can perform independent safety testing and certification of the specific products covered within its scope of recognition, and is not a delegation or grant of government authority. As a result of recognition, employers may use products properly approved by the NRTL to meet OSHA standards that require testing and certification of the products.

The agency processes applications by a NRTL for initial recognition and for an expansion or renewal of this recognition, following requirements in Appendix A to 29 CFR 1910.7. This appendix requires that the agency publish two notices in the Federal Register in processing an application. In the first notice, OSHA announces the application and provides a preliminary finding. In the second notice, the agency provides the final decision on the application. These notices set forth the NRTL's scope of recognition or modifications of that scope. OSHA maintains an informational web page for each NRTL, including IAPMO, which details the NRTL's scope of recognition. These pages are available from the OSHA website at http://www.osha.gov/dts/otpca/nrtl/index.html.

IAPMO submitted two applications to OSHA to expand their NRTL recognition. The first application to add one standard to the NRTL scope of recognition was received on September 29, 2019 (OSHA-2010-0030-0014), and this application was amended on November 25, 2020 (OSHA-2010-0030-0015), to add five additional standards. The applications would add six additional test standards to the NRTL scope of recognition. OSHA staff performed a detailed analysis of the application packets and reviewed other pertinent information. OSHA did not perform any on-site reviews in relation to these applications.

OSHA published the preliminary notice announcing IAPMO's expansion applications in the Federal Register on February 23, 2021 (86 FR 11002). The agency requested comments by March 10, 2021, but no comments were received in response to this notice. OSHA is now proceeding with this final notice to grant expansion of IAPMO's NRTL scope of recognition.

To obtain or review copies of all public documents pertaining to IAPMO's application, go to http://www.regulations.gov or contact the Docket Office, Occupational Safety and Health Administration, U.S. Department of Labor, 200 Constitution Avenue NW, Room N-3653, Washington, DC 20210. Docket No. OSHA-2013-0030 contains all materials in the record concerning IAPMO's recognition. Please note: While OSHA's Docket Office is continuing to accept and process submissions by regular mail, due to the COVD-19 pandemic, the Docket Office is closed to the public and not able to receive submissions to the docket by hand, express mail, messenger, and courier service.

II. Final Decision and Order

OSHA staff examined IAPMO's expansion application, its capability to meet the requirements of the test standards, and other pertinent information. Based on its review of this evidence, OSHA finds that IAPMO meets the requirements of 29 CFR 1910.7 for expansion of its recognition, subject to the limitation and conditions listed below. OSHA, therefore, is proceeding with this final notice to grant IAPMO's scope of recognition. OSHA limits the expansion of IAPMO's recognition to testing and certification of products for demonstration of conformance to the test standards listed in Table 1 below.

Table 1—List of Appropriate Test Standards for Inclusion in IAPMO's NRTL Scope of Recognition
Test standard | Test standard title
UL 197 | Standard for Commercial Electric Cooking Appliances.
UL 962 | Standard for Household and Commercial Furnishings.
UL 676 | Standard for Underwater Luminaires and Submersible Junction Boxes.
UL 73 | Standard for Safety Motor-Operated Appliances.
UL 763 | Standard for Commercial Safety for Motor-Operated Commercial Food Preparing Machines.
UL 399 | Drinking Water Coolers.

OSHA's recognition of any NRTL for a particular test standard is limited to equipment or materials for which OSHA standards require third-party testing and certification before using them in the workplace. Consequently, if a test standard also covers any products for which OSHA does not require such testing and certification, a NRTL's scope of recognition does not include these products.

The American National Standards Institute (ANSI) may approve the test standards listed above as American National Standards. However, for convenience, OSHA may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI-approved.

A. Conditions

In addition to those conditions already required by 29 CFR 1910.7, IAPMO must abide by the following conditions of the recognition:

1. IAPMO must inform OSHA as soon as possible, in writing, of any change of ownership, facilities, or key personnel, and of any major change in its operations as a NRTL, and provide details of the change(s);

2. IAPMO must meet all the terms of its recognition and comply with all OSHA policies pertaining to this recognition; and

3. IAPMO must continue to meet the requirements for recognition, including all previously published conditions on IAPMO's scope of recognition, in all areas for which it has recognition.

Pursuant to the authority in 29 CFR 1910.7, OSHA hereby expands the scope of recognition of IAPMO, subject to the limitation and conditions specified above.

III. Authority and Signature

James S. Frederick, Principal Deputy Assistant Secretary of Labor for Occupational Safety and Health, 200 Constitution Avenue NW, Washington, DC 20210, authorized the preparation of this notice. Accordingly, the agency is issuing this notice pursuant to Section 29 U.S.C. 655(6)(d), Secretary of Labor's Order No. 8-2020 (85 FR 58393; Sept. 18, 2020), and 29 CFR 1905.11.

Signed at Washington, DC, on April 5, 2021.
James S. Frederick,
Principal Deputy Assistant Secretary of Labor for Occupational Safety and Health.

[FR Doc. 2021-07406 Filed 4-9-21; 8:45 am]

BILLING CODE 4510-26-P